NATIONAL CREDIT UNION ADMINISTRATION

Agency Information Collection Activities: Proposed Collection; Comment Request; Contractor Profile

AGENCY: National Credit Union Administration (NCUA).

ACTION: Notice and request for comment.

SUMMARY: NCUA, as part of its continuing effort to reduce paperwork and respondent burden, invites the general public and other Federal agencies to comment on a new collection of information, as required by the Paperwork Reduction Act of 1995 (Pub. L. 104-13, 44 U.S.C. Chapter 35).

DATES: Written comments should be received on or before October 28, 2016 to be assured consideration.

ADDRESSES: Interested persons are invited to submit written comments on the information collection to Dawn Wolfgang, National Credit Union Administration, 1775 Duke Street, Alexandria, Virginia 22314, Suite 5067; Fax No. 703-519-8579; or Email at PRAComments@NCUA.gov.

FOR FURTHER INFORMATION CONTACT: Requests for additional information should be directed to the address above.

SUPPLEMENTARY INFORMATION: OMB Number: 3133-NEW.

Title: Contractor Profile.

Abstract: In January 2011, NCUA created the Office of Minority and Women Inclusion (OMWI), as mandated by sec. 342 of the Dodd-Frank Wall Street Reform and Consumer Protection Act (“Act”) (Pub. L. 111-203). As prescribed by sec. 342(c) of the Act, OMWIs shall develop and implement standards and procedures to ensure the fair inclusions and utilization of minorities, women, and minority-owned and women-owned business in all business and activities of the agency at all levels, including in procurement, insurance, and all types of contracts. NCUA has developed the Contractor Profile form that will be completed by a contractor to ensure the fair inclusion and utilization of minorities and women in the workforce of the contractor and, as applicable, subcontractor. The Contractor Profile form will include a series of questions covering a contractor's, and, as applicable, a subcontractor's diversity strategies, policies, recruitment, succession planning, and outreach. The information provided will be used by NCUA to determine if good faith efforts are met and to fulfill statutory requirements of the Act. Determinations are valid for a two-year period.

Type of Review: New collection.

Affected Public: Private Sector: Businesses or other for-profits.

Estimated No. of Respondents: 50.

Estimated Annual Frequency: 1.

Estimated Annual No. of Responses: 50.

Estimated Burden Hours per Response: 0.75.

Estimated Total Annual Burden Hours: 38.

Request for Comments: Comments submitted in response to this notice will be summarized and included in the request for Office of Management and Budget approval. All comments will become a matter of public record. The public is invited to submit comments concerning: (a) Whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Gerard Poliquin, Secretary of the Board, the National Credit Union Administration, on August 24, 2016.

Dated: August 24, 2016.
Dawn D. Wolfgang,
NCUA PRA Clearance Officer.

[FR Doc. 2016-20650 Filed 8-26-16; 8:45 am]

BILLING CODE 7535-01-P